DEPARTMENT OF COMMERCE

National Institute of Standards and Technology

Advisory Committee on Earthquake Hazards Reduction Meeting

AGENCY: National Institute of Standards and Technology, Department of Commerce.

ACTION: Notice of open meeting.

SUMMARY: National Institute of Standards and Technology (NIST)'s Advisory Committee on Earthquake Hazards Reduction (ACEHR or Committee) will hold an open meeting via webinar on March 12, 2019, from 3:00 p.m. to 5:00 p.m. Eastern Time.

DATES: The ACEHR will meet via webinar on Tuesday, March 12, 2019, from 3:00 p.m. to 5:00 p.m. Eastern Time.

ADDRESSES: The meeting will be held via webinar. Please note participation instructions under the SUPPLEMENTARY INFORMATION section of this notice.

FOR FURTHER INFORMATION CONTACT: Tina Faecke, Management and Program Analyst, National Earthquake Hazards Reduction Program (NEHRP), Engineering Laboratory, NIST, 100 Bureau Drive, Mail Stop 8604, Gaithersburg, Maryland 20899-8604. Ms. Faecke's email address is tina.faecke@nist.gov and her phone number is (301) 975-5911.

SUPPLEMENTARY INFORMATION: Authority: Section 103 of the NEHRP Reauthorization Act of 2004 (Pub. L. 108-360), 42 U.S.C. 7704, and the Federal Advisory Committee Act, as amended, 5 U.S.C. App. The Committee is composed of 11 members, appointed by the Director of NIST, who were selected for their established records of distinguished service in their professional community, their knowledge of issues affecting NEHRP, and to reflect the wide diversity of technical disciplines, competencies, and communities involved in earthquake hazards reduction. In addition, the Chairperson of the U.S. Geological Survey Scientific Earthquake Studies Advisory Committee serves as an ex-officio member of the Committee.

Pursuant to the Federal Advisory Committee Act, as amended, 5 U.S.C. App., notice is hereby given that the ACEHR will meet via webinar on Tuesday, March 12, 2019, from 3:00 p.m. to 5:00 p.m. Eastern Time. The meeting will be open to the public. The primary purpose of this meeting is for the Committee to develop a draft of their 2019 biennial Report on the Effectiveness of the NEHRP. The agenda may change to accommodate Committee business. The final agenda and any meeting materials will be posted on the NEHRP website at http://nehrp.gov/.

Individuals and representatives of organizations who would like to offer comments and suggestions related to the Committee's business are invited to request a place on the agenda. Approximately fifteen minutes will be reserved from 4:45 p.m.-5:00 p.m. Eastern Time for public comments and speaking times will be assigned on a first-come, first-serve basis. The amount of time per speaker will be determined by the number of requests received but is likely to be about three minutes each. Questions from the public will not be considered during this period. All those wishing to speak must submit their request by email to the attention of Tina Faecke, tina.faecke@nist.gov by 5:00 p.m. Eastern Time, Wednesday, March 6, 2019. Speakers who wish to expand upon their oral statements, those who had wished to speak but could not be accommodated on the agenda, and those who were unable to participate are invited to submit written statements to ACEHR, National Institute of Standards and Technology, Mail Stop 8604, 100 Bureau Drive, Gaithersburg, MD 20899, via fax at (301) 975-4032, or electronically by email to tina.faecke@nist.gov.

All participants in the meeting are required to pre-register. Anyone wishing to participate must register by 5:00 p.m. Eastern Time, Wednesday, March 6, 2019. Please submit your first and last name, email address, and phone number to Tina Faecke at tina.faecke@nist.gov or (301) 975-5911. After pre-registering, participants will be provided with detailed instructions on how to join the webinar.

Kevin A. Kimball,
Chief of Staff.

[FR Doc. 2019-02978 Filed 2-20-19; 8:45 am]

BILLING CODE 3510-13-P